DEPARTMENT OF ENERGY

Office of Energy Efficiency and Renewable Energy

[Case No. CD-004]

Energy Conservation Program for Consumer Products: Decision and Order Granting a Waiver to the General Electric Company From the Department of Energy Residential Clothes Dryer Test Procedure (Case No. CD-004)

AGENCY: Office of Energy Efficiency and Renewable Energy, Department of Energy.

ACTION: Decision and order.

SUMMARY: The U.S. Department of Energy (DOE) gives notice of the decision and order (Case No. CD-004) that grants to the General Electric Co. (GE) a waiver from the DOE clothes dryer test procedure. The waiver request pertains to GE's specified models of condensing residential clothes dryer. The existing test procedure does not apply to condensing clothes dryers. Under today's decision and order, GE shall be not be required to test and rate its specified models of condensing residential clothes dryer.

DATES: This decision and order is effective March 18, 2010.

FOR FURTHER INFORMATION CONTACT: Dr. Michael G. Raymond, U.S. Department of Energy, Building Technologies Program, Mailstop EE-2J, 1000 Independence Avenue, SW., Washington, DC 20585-0121. Telephone: (202) 586-9611; E-mail: AS_Waiver_Requests@ee.doe.gov. Betsy Kohl, U.S. Department of Energy, Office of General Counsel, Mail Stop GC-72, 1000 Independence Avenue, SW., Washington, DC 20585-0103, (202) 586-7796; E-mail: Elizabeth.Kohl@hq.doe.gov.

SUPPLEMENTARY INFORMATION: In accordance with Title 10 of the Code of Federal Regulations (10 CFR) 430.27(l), DOE gives notice of the issuance of its decision and order as set forth below. The decision and order grants GE a waiver from the applicable residential clothes dryer test procedure at 10 CFR part 430 subpart B, appendix D, for its two models of condensing clothes dryer.

Issued in Washington, DC, on March 10, 2010.
Cathy Zoi,
Assistant Secretary, Energy Efficiency and Renewable Energy.

Decision and Order

In the Matter of: GE Corporation. (Case No. CD-004)

Background

Title III of the Energy Policy and Conservation Act (EPCA) sets forth a variety of provisions concerning energy efficiency. Part A of Title III provides for the “Energy Conservation Program for Consumer Products Other Than Automobiles.” (42 U.S.C. 6291-6309) Part A includes definitions, test procedures, labeling provisions, energy conservation standards, and the authority to require information and reports from manufacturers. Further, Part A authorizes the Secretary of Energy to prescribe test procedures that are reasonably designed to produce results that measure energy efficiency, energy use, or estimated operating costs, and that are not unduly burdensome to conduct. (42 U.S.C. 6293(b)(3))

Today's notice involves residential products under Part A. The test procedure for residential clothes dryers relevant to the current petition for waiver is contained in 10 CFR part 430, subpart B, appendix D.

DOE's regulations contain provisions allowing a person to seek a waiver from the test procedure requirements for covered consumer products if at least one of the following conditions is met: (1) The petitioner's basic model contains one or more design characteristics that prevent testing according to the prescribed test procedure, or (2) when the prescribed test procedures may evaluate the basic model in a manner so unrepresentative of its true energy consumption characteristics as to provide materially inaccurate comparative data. 10 CFR 430.27(a)(1). Petitioners must include in their petition any alternate test procedures known to the petitioner to evaluate the basic model in a manner representative of its energy consumption characteristics. 10 CFR 430.27(b)(1)(iii).

The Assistant Secretary for Energy Efficiency and Renewable Energy (the Assistant Secretary) may grant a waiver subject to conditions, including adherence to alternate test procedures. 10 CFR 430.27(l). Waivers remain in effect pursuant to the provisions of 10 CFR 430.27(m).

The waiver process also allows any interested person who has submitted a petition for waiver to file an application for an interim waiver of the applicable test procedure requirements. 10 CFR 430.27(a)(2). The Assistant Secretary will grant an interim waiver request if it is determined that the applicant will experience economic hardship if the interim waiver is denied, if it appears likely that the petition for waiver will be granted, and/or the Assistant Secretary determines that it would be desirable for public policy reasons to grant immediate relief pending a determination on the petition for waiver. 10 CFR 430.27(g).

On July 14, 2009, GE filed a petition for waiver from the test procedures applicable to its DCVH480E* and DCVH485E* product models (the two models differ only in color) of condensing clothes dryer. On March 2, 2010, GE informed DOE that it had made a typographical error in the model numbers listed in its petition for waiver. The correct model numbers of the products for which GE seeks a waiver, and that DOE analyzed in determining whether to grant the interim waiver and this petition for waiver, are DCCH480E* and DCCH485E*. The applicable test procedures are contained in 10 CFR part 430, subpart B, appendix D—Uniform Test Method for Measuring the Energy Consumption of Clothes Dryers. GE seeks a waiver from the applicable test procedures for its DCCH480E* and DCCH485E* basic product models because, GE asserts, design characteristics of this model prevent testing according to the currently prescribed test procedures. DOE previously granted Miele Appliance, Inc. (Miele), a waiver from test procedures for two similar condenser clothes dryer models (T1565CA and T1570C). (60 FR 9330 (Feb. 17, 1995)) GE claims that its condenser clothes dryers cannot be tested pursuant to the DOE procedure and requests that the same waiver granted to Miele in 1995 be granted for GE's DCCH480E* and DCCH485E* models.

In support of its petition, GE claims that the current clothes dryer test procedures apply only to vented clothes dryers because the test procedures require the use of an exhaust restrictor on the exhaust port of the clothes dryer during testing. Because condenser clothes dryers operate by blowing air through the wet clothes, condensing the water vapor in the airstream, and pumping the collected water into either a drain line or an in-unit container, these products do not use an exhaust port like a vented dryer does. GE plans to market a condensing clothes dryer for situations in which a conventional vented clothes dryer cannot be used, such as high-rise apartments and condominiums, neither of whose construction permits the use of external venting.

Assertions and Determinations

GE's Petition for Waiver

On July 14, 2009, GE filed a petition for waiver from the test procedure applicable to residential clothes dryers set forth in 10 CFR part 430, subpart B, appendix D for particular models of condensing clothes dryer. On December 15, 2009, DOE published GE's petition for waiver and granted GE an interim waiver from the current test procedure. 74 FR 66335. DOE did not receive any comments on the GE petition.

DOE previously granted Miele a waiver from test procedures for condensing clothes dryers after determining that the clothes dryer test procedure was not applicable to the company's condenser clothes dryers because of the lack of an exhaust port for mounting the required exhaust restrictor, which is an element of the test procedure. 60 FR 9332 (February 17, 1995). Subsequently, in 2008, DOE granted LG a similar waiver for its DLEC733W condenser clothes dryer. 73 FR 66641 (Nov. 10, 2008). In 2009, DOE granted a similar waiver to Whirlpool. 74 FR 66334 (December 15, 2009).

Therefore, for the reasons discussed above and in light of the long-standing waiver granted to Miele, and the recent waivers to LG and Whirlpool, DOE grants GE's petition for waiver from testing of its condenser clothes dryers.

Consultations With Other Agencies

DOE consulted with the Federal Trade Commission (FTC) staff concerning the GE petition for waiver. The FTC staff did not have any objections to granting a waiver to GE.

Conclusion

After careful consideration of all the material that was submitted by GE and consultation with the FTC staff, it is ordered that:

(1) The petition for waiver submitted by the General Electric Co. (Case No. CD-004) is hereby granted as set forth in the paragraphs below.

(2) GE shall not be required to test or rate its DCCH480E* and DCCH485E* condensing clothes dryer models on the basis of the test procedures at 10 CFR part 430, subpart B, appendix D.

(3) This waiver shall remain in effect from the date this decision and order consistent with the provisions of 10 CFR 430.27(m).

(4) This waiver is issued on the condition that the statements, representations, and documentary materials provided by the petitioner are valid. DOE may revoke or modify this waiver at any time if it determines the factual basis underlying the petition for waiver is incorrect.

Issued in Washington, DC, on March 10, 2010.

Cathy Zoi

Assistant Secretary, Energy Efficiency and Renewable Energy.

[FR Doc. 2010-5937 Filed 3-17-10; 8:45 am]

BILLING CODE 6450-01-P